OFFICE OF THE UNITED STATES TRADE REPRESENTATIVE

[Dispute No. WTO/DS464]

WTO Dispute Settlement Proceeding Regarding United States—Anti-Dumping and Countervailing Measures on Large Residential Washers From Korea

AGENCY: Office of the United States Trade Representative.

ACTION: Notice; request for comments.

SUMMARY: The Office of the United States Trade Representative (“USTR”) is providing notice that the Republic of Korea (“Korea”) has requested the establishment of a dispute settlement panel under the Marrakesh Agreement Establishing the World Trade Organization (“WTO Agreement”). That request may be found at www.wto.org contained in a document designated as WT/DS464/4. USTR invites written comments from the public concerning the issues raised in this dispute.

DATES: Although USTR will accept any comments received during the course of the dispute settlement proceedings, comments should be submitted on or before March 31, 2014, to be assured of timely consideration by USTR.

ADDRESSES: Public comments should be submitted electronically to www.regulations.gov, docket number USTR-2013-0031. If you are unable to provide submissions by www.regulations.gov, please contact Sandy McKinzy at (202) 395-9483 to arrange for an alternative method of transmission.

If (as explained below) the comment contains confidential information, then the comment should be submitted by fax only to Sandy McKinzy at (202) 395-3640.

FOR FURTHER INFORMATION CONTACT: J. Daniel Stirk, Associate General Counsel, or Brooks E. Allen, Assistant General Counsel, Office of the United States Trade Representative, 600 17th Street NW., Washington, DC 20508, (202) 395-3150.

SUPPLEMENTARY INFORMATION: Section 127(b) of the Uruguay Round Agreements Act (“URAA”) (19 U.S.C. 3537(b)(1)) requires that notice and opportunity for comment be provided after the United States submits or receives a request for the establishment of a WTO dispute settlement panel. Pursuant to this provision, USTR is providing notice that a dispute settlement panel has been established in this matter pursuant to the WTO Dispute Settlement Understanding (“DSU”). The panel will hold its meetings in Geneva, Switzerland.

Major Issues Raised by Korea

On December 26, 2012, the U.S. Department of Commerce published in the Federal Register notice of its final affirmative less-than-fair-value (“LTFV”) determination in the antidumping investigation concerning large residential washers from Korea (77 FR 75988). On February 15, 2013, the Department of Commerce published its antidumping duty order (78 FR 11148).

On December 26, 2012, the Department of Commerce published in the Federal Register notice of its final affirmative countervailing duty determination concerning large residential washers from Korea (77 FR 75975) and on February 15, 2013, published its countervailing duty order (78 FR 11154).

In its request for the establishment of a panel, Korea alleges that the Department of Commerce improperly calculated margins of dumping through its application of an alternative, average-to-transaction comparison methodology and its alleged use of a methodology that Korea describes as “zeroing.” Korea alleges that the final LTFV determination and antidumping duty order, as well as “preliminary and final determinations in administrative reviews, new shipper reviews, sunset reviews, changed circumstances reviews, and other segments” are inconsistent with Articles 1, 2.1, 2.4, 2.4.2, 5.8, 9.3, 9.5, 11.2, and 11.3 of the Anti-Dumping Agreement, and Articles VI:1 and VI:2 of the General Agreement on Tariffs and Trade 1994.

Korea also challenges “as such” the Department of Commerce's use of an alternative, average-to-transaction comparison methodology and its alleged use of a methodology that Korea describes as “zeroing.” Korea alleges that these methodologies are inconsistent, “as such,” with Articles 1, 2.1, 2.4, 2.4.2, 9.3, 9.5, 11.2, 11.3, and 18.4 of the Anti-Dumping Agreement, Articles VI:1 and VI:2 of the General Agreement on Tariffs and Trade 1994, and Article XVI:4 of the WTO Agreement.

Korea further alleges that the Department of Commerce improperly calculated countervailing duties with respect to certain tax credits received by one respondent. Korea alleges that the final countervailing duty determination and countervailing duty order, as well as “preliminary and final determinations in administrative reviews, new shipper reviews, sunset reviews, changed circumstances reviews, and other segments” are inconsistent with Articles 1.1, 1.2, 2.1, 2.2, 10, 14, 19.4, and 32.1 of the Agreement on Subsidies and Countervailing Measures, and with Article VI:3 of the General Agreement on Tariffs and Trade 1994.

Public Comment: Requirements for Submissions

Interested persons are invited to submit written comments concerning the issues raised in this dispute. Persons may submit public comments electronically to www.regulations.gov docket number USTR-2013-0031. If you are unable to provide submissions by www.regulations.gov, please contact Sandy McKinzy at (202) 395-9483 to arrange for an alternative method of transmission.

To submit comments via www.regulations.gov, enter docket number USTR-2013-0031 on the home page and click “search.” The site will provide a search-results page listing all documents associated with this docket. Find a reference to this notice by selecting “Notice” under “Document Type” on the left side of the search-results page, and click on the link entitled “Comment Now!” (For further information on using the www.regulations.gov Web site, please consult the resources provided on the Web site by clicking on “How to Use This Site” on the left side of the home page.)

The www.regulations.gov Web site allows users to provide comments by filling in a “Type Comments” field, or by attaching a document using an “Upload File” field. It is expected that most comments will be provided in an attached document. If a document is attached, it is sufficient to type “See attached” in the “Type Comments” field.

A person requesting that information contained in a comment that he/she submitted be treated as confidential business information must certify that such information is business confidential and would not customarily be released to the public by the submitter. Confidential business information must be clearly designated as such and the submission must be marked “BUSINESS CONFIDENTIAL” at the top and bottom of the cover page and each succeeding page. Any comment containing business confidential information must be submitted by fax to Sandy McKinzy at (202) 395-3640. A non-confidential summary of the confidential information must be submitted to www.regulations.gov. The non-confidential summary will be placed in the docket and will be open to public inspection.

USTR may determine that information or advice contained in a comment submitted, other than business confidential information, is confidential in accordance with Section 135(g)(2) of the Trade Act of 1974 (19 U.S.C. 2155(g)(2)). If the submitter believes that information or advice may qualify as such, the submitter—

(1) Must clearly so designate the information or advice;

(2) Must clearly mark the material as “SUBMITTED IN CONFIDENCE” at the top and bottom of the cover page and each succeeding page; and

(3) Must provide a non-confidential summary of the information or advice.

Any comment containing confidential information must be submitted by fax. A non-confidential summary of the confidential information must be submitted to www.regulations.gov. The non-confidential summary will be placed in the docket and will be open to public inspection.

Pursuant to section 127(e) of the Uruguay Round Agreements Act (19 U.S.C. 3537(e)), USTR will maintain a docket on this dispute settlement proceeding, docket number USTR-2013-0031, accessible to the public at www.regulations.gov.

The public file will include non-confidential comments received by USTR from the public regarding the dispute. The following documents will be made available to the public at www.ustr.gov: the United States' submissions, any non-confidential submissions received from other participants in the dispute, and any non-confidential summaries of submissions received from other participants in the dispute. The report of the panel in this proceeding and, if applicable, the report of the Appellate Body, will be available on the Web site of the World Trade Organization, at www.wto.org. Comments open to public inspection may be viewed at www.regulations.gov.

Juan Millan,
Assistant United States Trade Representative for Monitoring and Enforcement.

[FR Doc. 2014-04236 Filed 2-26-14; 8:45 am]

BILLING CODE 3290-F4-P